DEPARTMENT OF ENERGY

Federal Energy Regulatory Commission

Combined Notice of Filings #1

Take notice that the Commission received the following electric corporate filings:

Docket Numbers: EC12-140-000.

Applicants: LSP Energy Limited Partnership.

Description: Application for Order Authorizing the Disposition of Jurisdictional Facilities Under Section 203 of the Federal Power Act and Request for Waivers, Expedited Action and Shortened Comment Period of LSP Energy Limited Partnership.

Filed Date: 9/14/12.

Accession Number: 20120914-5105.

Comments Due: 5 p.m. e.t. 10/5/12.

Take notice that the Commission received the following exempt wholesale generator filings:

Docket Numbers: EG12-110-000.

Applicants: Crawfordsville Energy, LLC.

Description: Notice of Self-Certification as an Exempt Wholesale Generator of Crawfordsville Energy, LLC.

Filed Date: 9/14/12.

Accession Number: 20120914-5019.

Comments Due: 5 p.m. et 10/5/12.

Docket Numbers: EG12-111-000.

Applicants: Catalina Solar, LLC.

Description: Notice of Self-Certification of Exempt Wholesale Generator Status of Catalina Solar, LLC.

Filed Date: 9/14/12.

Accession Number: 20120914-5047.

Comments Due: 5 p.m. e.t. 10/5/12.

Take notice that the Commission received the following electric rate filings:

Docket Numbers: ER11-3697-003.

Applicants: Southern California Edison Company.

Description: Formula Transmission Rate Informational Filing to be effective N/A.

Filed Date: 9/14/12.

Accession Number: 20120914-5033.

Comments Due: 5 p.m. e.t. 10/5/12.

Docket Numbers: ER11-40-004.

Applicants: Arizona Public Service Company.

Description: Rate Schedule No. 217 Compliance Filing, Diagrams to be effective 10/1/2012.

Filed Date: 9/14/12.

Accession Number: 20120914-5059.

Comments Due: 5 p.m. e.t. 10/5/12.

Docket Numbers: ER12-2622-000.

Applicants: New York Independent System Operator, Inc.

Description: Compliance—Order 719 MST 2.4 4.1 4.2 Aggregators—DSASP Op Rsrvs Rgltn Srvc Mrkts to be effective 4/1/2013.

Filed Date: 9/13/12.

Accession Number: 20120913-5079.

Comments Due: 5 p.m. e.t. 10/4/12.

Docket Numbers: ER12-2623-000.

Applicants: California Independent System Operator Corporation.

Description: 2012-09-13 Amendment to Valley Electric Transition Agreement to be effective 11/13/2012.

Filed Date: 9/13/12.

Accession Number: 20120913-5106.

Comments Due: 5 p.m. e.t. 10/4/12.

Docket Numbers: ER12-2624-000.

Applicants: PJM Interconnection, L.L.C.

Description: PJM Tariff Attachments O & P re Interconnection Customer Drawings in ISA/ICSAs to be effective 11/14/2012.

Filed Date: 9/14/12.

Accession Number: 20120914-5023.

Comments Due: 5 p.m. e.t. 10/5/12.

Docket Numbers: ER12-2625-000.

Applicants: ISO New England Inc., New England Power Pool Participants Committee.

Description: Resource's Capacity Supply Obligation to be effective 11/13/2012.

Filed Date: 9/14/12.

Accession Number: 20120914-5029.

Comments Due: 5 p.m. e.t. 10/5/12.

Docket Numbers: ER12-2626-000.

Applicants: Southern California Edison Company.

Description: Amended SGIA and DSA to 2250 Sequoia Ave Ontario Roof Top Solar Project to be effective 9/15/2012.

Filed Date: 9/14/12.

Accession Number: 20120914-5038.

Comments Due: 5 p.m. e.t. 10/5/12.

Docket Numbers: ER12-2627-000.

Applicants: Catalina Solar, LLC.

Description: Catalina Solar Baseline MBR Application Filing to be effective 11/15/2012.

Filed Date: 9/14/12.

Accession Number: 20120914-5072.

Comments Due: 5 p.m. e.t. 10/5/12.

Docket Numbers: ER12-2628-000.

Applicants: Nevada Power Company.

Description: Rate Schedule No. 131 Cost Reimbursement Letter Agmt-Colorado River Commission to be effective 9/11/2012.

Filed Date: 9/14/12.

Accession Number: 20120914-5091.

Comments Due: 5 p.m. e.t. 10/5/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 14, 2012.
Nathaniel J. Davis, Sr.,
Deputy Secretary.

[FR Doc. 2012-23339 Filed 9-20-12; 8:45 am]

BILLING CODE 6717-01-P